ENVIRONMENTAL PROTECTION AGENCY

[FRL 9955-07-Region 5]

Notification of a Public Teleconference of the Science and Information Subcommittee

AGENCY: Environmental Protection Agency (EPA).

ACTION: Notice.

SUMMARY: The Environmental Protection Agency (EPA) announces a public teleconference of the Science and Information Subcommittee (SIS) to the Great Lakes Advisory Board (Board). The purpose of this meeting is to discuss the Great Lakes Restoration Initiative (GLRI) covering FY15-19 and other relevant matters.

DATES: The teleconference will be held on Thursday, November 17, 2016 from 1:30 p.m. to 3:30 p.m. Central Time, 2:30 p.m. to 4:30 p.m. Eastern Time. An opportunity will be provided to the public to comment. Due to administrative circumstances, EPA is announcing this meeting with less than 15 calendar days' public notice.

ADDRESSES: The public teleconference will be held by teleconference only. The teleconference number is: 1-877-226-9607; participant code: 605 016 6037.

FOR FURTHER INFORMATION CONTACT: Any member of the public wishing further information regarding this teleconference may contact Rita Cestaric, Designated Federal Officer (DFO), by email at cestaric.rita@epa.gov. General information on the GLRI, the Board, and SIS can be found at http://glri.us/public.html.

SUPPLEMENTARY INFORMATION: Background: The SIS was established in accordance with the provisions of the Federal Advisory Committee Act (FACA), Public Law 92-463. The SIS is composed of members from governmental, private sector, non-profit and academic organizations, appointed by the EPA Administrator in her capacity as Chair of the Interagency Task Force (IATF), who were selected based on their established records of distinguished service in their professional community and their knowledge of ecological protection and restoration issues. The SIS will assist the Board in providing ongoing advice on Great Lakes adaptive management and may provide other recommendations, as requested by the IATF.

Availability of Meeting Materials: The agenda and other materials in support of the meeting will be available at http://glri.us/advisory/index.html.

Procedures for Providing Public Input: Federal advisory committees provide independent advice to federal agencies. Members of the public can submit relevant comments for consideration by the SIS. Input from the public to the SIS will have the most impact if it provides specific information for the SIS to consider. Members of the public wishing to provide comments should contact the DFO directly.

Oral Statements: In general, individuals or groups requesting an oral presentation at this public meeting will be limited to three minutes per speaker, subject to the number of people wanting to comment. Interested parties should contact the DFO in writing (preferably via email) at the contact information noted above by November 16, 2016 to be placed on the list of public speakers for the meeting.

Written Statements: Written statements must be received by November 14, 2016 so that the information may be made available to the SIS for consideration. Written statements should be supplied to the DFO in the following formats: One hard copy with original signature and one electronic copy via email. Commenters are requested to provide two versions of each document submitted: One each with and without signatures because only documents without signatures may be published on the GLRI Web page.

Accessibility: For information on access or services for individuals with disabilities, please contact the DFO at the phone number or email address noted above, preferably at least seven days prior to the meeting, to give EPA as much time as possible to process your request.

Dated: November 2, 2016.
Cameron Davis,
Senior Advisor to the Administrator.

[FR Doc. 2016-27078 Filed 11-8-16; 8:45 am]

BILLING CODE 6560-50-P